COMMODITY FUTURES TRADING COMMISSION

Privacy Act of 1974 System of Records Notice

AGENCY: Commodity Futures Trading Commission.

ACTION: Notice; publication of existence and character of two new systems of records.

SUMMARY: The Commodity Futures Trading Commission is establishing two new systems of records under the Privacy Act of 1974: one, for the collection of information related to new procedures for accounting and determining financial responsibility for lost, stolen, damaged or destroyed CFTC property assigned to CFTC employees, volunteers, interns, contractors and consultants; and two, for the collection of information related to internal electronic collaboration tools which use Microsoft SharePoint, including the CFTC Intranet and social media tools within the Intranet.

DATES: Comments must be received on or before February 13, 2012.

ADDRESSES: You may submit comments identified by “Lost or Damaged Property SORN” or “Internal Electronic Collaboration Tools SORN” as applicable, by any of the following methods:

• Agency Web site, via its Comments Online process: http://comments.cftc.gov. Follow the instructions for submitting comments through the Web site.

• Federal eRulemaking Portal: Comments may be submitted at http://www.regulations.gov. Follow the instructions for submitting comments.

• Mail: David A. Stawick, Secretary of the Commission, Commodity Futures Trading Commission, Three Lafayette Centre, 1155 21st Street, NW., Washington, DC 20581.

• Hand Delivery/Courier: Same as mail above.

Please submit your comments using only one method.

All comments must be submitted in English, or if not, accompanied by an English translation. Comments will be posted as received to www.cftc.gov. You should submit only information that you wish to make available publicly. If you wish the Commission to consider information that you believe is exempt from disclosure under the Freedom of Information Act, a petition for confidential treatment of the exempt information may be submitted according to the procedures established in § 145.9 of the Commission's regulations, 17 CFR 145.9.

The Commission reserves the right, but shall have no obligation, to review, pre-screen, filter, redact, refuse or remove any or all of a submission from www.cftc.gov that it may deem to be inappropriate for publication, such as obscene language. All submissions that have been redacted or removed that contain comments on the merits of the notice will be retained in the public comment file and will be considered as required under all applicable laws, and may be accessible under the Freedom of Information Act.

FOR FURTHER INFORMATION CONTACT: Kathy Harman-Stokes, Chief Privacy Officer, kharman-stokes@cftc.gov, (202) 418-6629, Office of the Executive Director, Commodity Futures Trading Commission, Three Lafayette Centre, 1155 21st Street, NW., Washington, DC 20581.

SUPPLEMENTARY INFORMATION:

I. The Privacy Act

Under the Privacy Act of 1974, 5 U.S.C. 552a, a “system of records” is defined as any group of records under the control of a Federal Government agency from which information about individuals is retrieved by name or other personal identifier. The Privacy Act establishes the means by which government agencies must collect, maintain, and use personally identifiable information associated with an individual in a government system of records.

Each government agency is required to publish a notice in the Federal Register of a system of records in which the agency identifies and describes each system of records it maintains, the reasons why the agency uses the personally identifying information therein, the routine uses for which the agency will disclose such information outside the agency, and how individuals may exercise their rights under the Privacy Act to determine if the system contains information about them.

II. Lost, Stolen, Damaged or Destroyed CFTC Property

The CFTC assigns its employees, interns, volunteers, contractors and consultants (“employees”) certain accountable CFTC property for their use in accomplishing their official duties. The CFTC is obligated to account for such property for financial responsibility and audit purposes and, in certain situations, to recover costs for property that has been lost, stolen, damaged or destroyed. The property for which an accounting is required includes, but is not limited to, sensitive property, such as a Blackberry or laptop, that requires special controls or is especially vulnerable to loss, theft or misuse, and other property, including printers, monitors, scanners, and cameras.

The Commission is establishing a new business process to require employees to report when CFTC property is lost, stolen, damaged or destroyed, and for the CFTC to document the determination of financial responsibility for the property. The new Privacy Act system of records includes information supplied by the employee; evidence and records requested to facilitate the determination of financial responsibility, such as copies of police reports, accident reports and photographs; Property Survey Board interviews and other notes, meeting minutes, and findings and recommendations concerning responsibility for reimbursement; and information related to the final decision by the Executive Director. The system of records also contains information on reimbursement and, if an employee disagrees with a finding of responsibility, records related to the employee's appeal.

III. Internal Electronic Collaboration Tools

The CFTC is implementing internal electronic collaboration tools utilizing the Microsoft SharePoint platform. These tools will upgrade the Commission's intranet, allow users to set up team collaboration workspaces, facilitate sharing of documents, policies and information, and allow limited social networking through the SharePoint “MySites” feature. The new Intranet, built on these tools, will include Commission policies, procedures, forms, organization charts, news clips, links to other sites that are helpful for staff members, and links to other CFTC SharePoint sites containing shared documents and other information. The Intranet will include content regarding program offices, services and support, and projects and activities. By connecting to a CFTC network administration database, the Intranet will display a directory of all CFTC users, including titles, contact information and the photograph used for CFTC credentials for all employees, interns, volunteers, consultants and contractors (collectively “users”). Certain SharePoint sites may include personal contact information for users. The MySites feature will allow CFTC users to set up a personal profile, identify subject matter areas about which they are knowledgeable, upload pictures, and publish notes, tags, content, and messages that are similar to email. MySites includes a “newsfeed” to alert selected users when one user has added or changed information on his or her MySites page. Users will be able to manually select “colleagues,” which the colleague may approve or deny, and create and join groups. Overall, the internal collaboration tools will provide invaluable dissemination and exchange of information, allowing users to stay connected within a dashboard that each user can personalize.

While most of the information in the collaboration tools will involve Commission policies, forms, activities and other business, the tools will display personally identifiable information (“PII”) in the form of the CFTC user name, title, business contact information, the photograph a user uses for credentials to access CFTC facilities, and organizational chart and hierarchy information. Those users who elect to participate in MySites will be able to publish additional personal information to selected colleagues only, to specified teams or groups, and/or to all CFTC users, as they choose. That personal information may include personal photographs, information about their family status (such as whether they are married or have children), their hobbies or personal activities, and other content.

All CFTC users will need to use the internal electronic collaboration tools to perform their official duties, for example, to use the Intranet to obtain business phone numbers of other CFTC users, to view internal policies, to link to specific SharePoint sites containing Commission business information, or use SharePoint workspaces with other team members. On the other hand, the use of MySites is purely voluntary. Those who elect to use MySites will have some control over which other users may see their personal information; however, as will be explained to MySites users, Intranet site administrators and other CFTC staff members with a legitimate need to know the information for official purposes will have full access to view all content, including all personal content posted through MySites. Intranet users will be clearly informed that, if they use MySites, they have no reasonable expectation of privacy in any information they post, as with any other information passing through or stored on CFTC equipment.

The Internal Electronic Collaboration Tools system of records will contain CFTC business information, business contact information and photographs for CFTC users, at times personal contact information, and any personal information a user chooses to post within MySites.

IV. Notice: Lost, Stolen, Damaged or Destroyed CFTC Property

System Number:

CFTC-46.

SYSTEM NAME:

Lost, Stolen, Damaged or Destroyed CFTC Property.

SECURITY CLASSIFICATION:

Unclassified.

SYSTEM LOCATION:

This system is located in the Commission's principal office at Commodity Futures Trading Commission, Three Lafayette Centre, 1155 21st Street, NW., Washington, DC 20581.

CATEGORIES OF INDIVIDUALS COVERED BY THE SYSTEM:

CFTC employees, interns, volunteers, contractors and consultants who have experienced the loss, theft, damage or destruction of CFTC accountable property assigned to them.

CATEGORIES OF RECORDS IN THE SYSTEM:

The system of records includes the information provided by employees, volunteers, interns, contractors or consultants on a Lost, Stolen, Damaged or Destroyed CFTC Property reporting form, such as name, office contact information, and details concerning the loss, theft, damage or destruction of property; evidence and records collected from the employee, volunteer, intern, contractor or consultant, his or her supervisor or others interviewed; copies of police reports, accident reports, photographs and notes from interviews; meeting minutes from Property Survey Board meetings; findings, recommendations and the final decision concerning responsibility for reimbursement; information concerning reimbursement; and, if applicable, records related to an appeal.

AUTHORITY FOR MAINTENANCE OF THE SYSTEM:

Commodity Exchange Act Section 2(a)(5) (7 U.S.C. 2(a)(5)), Section 2(a)(6) (7 U.S.C. 2(a)(6)) and Section 2(a)(12) (7 U.S.C. 2(a)(12)), and the rules and regulations promulgated thereunder; the Federal Property and Administrative Services Act of 1949, 40 U.S.C. 471 et seq.; the Federal Managers' Financial Integrity Act of 1982, 31 U.S.C. 3512(b) and (c); and the Government Employee's Standard of Conduct, 5 CFR 2635.704.

PURPOSE(S):

The purpose of the new system of records is to facilitate reporting by employees, interns, volunteers, contractors and consultants when CFTC property assigned to them is lost, stolen, damaged or destroyed, to allow the CFTC Logistics and Operations Unit (L&O), a new Property Survey Board, and/or the Commission's Executive Director to review reports and related evidence, to determine whether the employee, intern, volunteer, contractor or consultant should be held financially responsible for reimbursing the CFTC for the costs of the property, and to allow an appeal of a decision.

ROUTINE USES OF RECORDS MAINTAINED IN THE SYSTEM, INCLUDING CATEGORIES OF USERS AND THE PURPOSES OF SUCH USES:

The information in this system will be routinely used by CFTC staff in the Office of the Executive Director, including L&O, Financial Management Branch, and, as needed, the Human Resources Branch, to facilitate the accounting for and determination of financial responsibility of employees, volunteers, interns, contractors and consultants for lost, stolen, damaged or destroyed CFTC property assigned to them. Information in this system may also be disclosed in accordance with the blanket routine uses that appear in the Commission's Privacy Act Systems of Records Notices, see, e.g., 76 FR 5974 (Feb. 2, 2011).

DISCLOSURE TO CONSUMER REPORTING AGENCIES:

None.

POLICIES AND PRACTICES FOR STORING, RETRIEVING, ACCESS CONTROLS, RETAINING, AND DISPOSING OF RECORDS IN THE SYSTEM:

STORAGE:

Paper records are stored in file folders, binders, computer disks, and are uploaded into the CFTC network. Electronic records, including emails, spreadsheets, PDF files and documents maintained on a SharePoint site, are stored on the Commission's network and other electronic media as needed, such as encrypted hard drives and back-up media.

RETRIEVABILITY:

By name of the employee, volunteer, intern, contractor or consultant who completes and provides to L&O staff the Lost, Stolen, Damaged or Destroyed CFTC Property Report and provides other evidence.

ACCESS CONTROLS, SAFEGUARDS:

Records in the system are protected from unauthorized access and misuse through various administrative, technical and physical security measures. Technical security measures within CFTC include restrictions on computer access to authorized individuals, required use of strong passwords that are frequently changed, use of encryption for certain data types and transfers, and regular review of security procedures and best practices to enhance security. Physical measures include restrictions on building access to authorized individuals only and maintaining records in lockable offices and filing cabinets.

RETENTION AND DISPOSAL:

The records will be maintained in accordance with records disposition schedules approved by the National Archives and Records Administration. The schedules are available at www.cftc.gov.

SYSTEM MANAGER(S) AND ADDRESS:

The Commission's Logistics and Operations Unit, Property Management Officer, located at the Commodity Futures Trading Commission, Three Lafayette Centre, 1155 21st Street NW., Washington, DC 20581.

NOTIFICATION PROCEDURE:

Individuals seeking to determine whether this system of records contains information about themselves or seeking access to records about themselves in this system of records, or contesting the content of records about themselves contained in this system of records should address written inquiry to the Office of General Counsel, Paralegal Specialist, Commodity Futures Trading Commission, Three Lafayette Centre, 1155 21st Street NW., Washington, DC 20581. Telephone (202) 418-5011.

RECORD SOURCE CATEGORIES:

Employees, volunteers, interns, contractors or consultants who provide information through the Lost, Stolen, Damaged or Destroyed CFTC Property Report or in discussions with L&O staff, the Property Survey Board or Executive Director; selected L&O staff and the Property Survey Board members involved in reviewing a particular situation to make a recommendation regarding responsibility for reimbursement; the Executive Director, who makes the final decision regarding responsibility; and personnel in the Commission's Financial Management Branch who handle financial reimbursement issues.

EXEMPTIONS CLAIMED FOR THIS SYSTEM:

None.

V. Notice: Internal Electronic Collaboration Tools

System Number:

CFTC-47.

SYSTEM NAME:

Internal Electronic Collaboration Tools.

SECURITY CLASSIFICATION:

Unclassified.

SYSTEM LOCATION:

This system is located in the Commodity Futures Trading Commission headquarters, Three Lafayette Centre, 1155 21st Street NW., Washington, DC 20581.

CATEGORIES OF INDIVIDUALS COVERED BY THE SYSTEM:

CFTC employees, interns, volunteers, contractors and consultants who are given access to the CFTC network.

CATEGORIES OF RECORDS IN THE SYSTEM:

CFTC user name, title, business and personal contact information, and organizational chart and hierarchy information. Those users who elect to participate in MySites will be able to publish additional personal information, such as personal photographs, information about their family status (such as whether they are married or have children), their hobbies, subject matter areas of Commission business about which they are knowledgeable, personal activities, notes, messages and other content. Also, the Internal Electronic Collaboration Tools will contain documents in electronic form covered by other CFTC Privacy Act System of Record Notices.

AUTHORITY FOR MAINTENANCE OF THE SYSTEM:

5 U.S.C. 301; Commodity Exchange Act, 7 U.S.C. § 1 et seq. including Section 12(b) of the Commodity Exchange Act, at 7 U.S.C. 16(b)(3), and the rules and regulations promulgated thereunder.

PURPOSE(S):

The purpose of the new system of records is to enhance and improve efficiencies in the dissemination and exchange of information within the Commission and allow colleagues to connect with each other. The internal electronic collaboration tools, utilizing the Microsoft SharePoint platform, will upgrade the Commission's intranet, allow users to set up team collaboration workspaces, facilitate sharing of documents, policies and information, and allow limited social networking through the SharePoint “MySites” feature. The new intranet will include Commission policies, procedures, forms, organization charts, news clips, links to other sites that are helpful for staff members, and links to other CFTC SharePoint sites containing shared documents and other information. The intranet will include content regarding program offices, services and support, and projects and activities. By connecting to a CFTC network administration database, the intranet will display a directory of all CFTC users, including titles, contact information and the photograph used for CFTC credentials for all employees, interns, volunteers, consultants and contractors (collectively “users”). The MySites feature will allow CFTC users to set up a personal profile, upload pictures, and publish content and messages that are similar to email. MySites also allows users to join groups, connect with colleagues and receive a newsfeed when new information is posted.

ROUTINE USES OF RECORDS MAINTAINED IN THE SYSTEM, INCLUDING CATEGORIES OF USERS AND THE PURPOSES OF SUCH USES:

The information in this system will be routinely used by CFTC users to disseminate and share information, collaborate and communicate with each other with the goal of more efficiently conducting Commission business. Also, the Internal Electronic Collaboration Tools system will contain documents in electronic form covered by other System of Record Notices, and the routine uses for those System of Record Notices apply. In addition, information in this system may be disclosed in accordance with the blanket routine uses that appear in the Commission's Privacy Act Systems of Records Notices, see, e.g., 76 FR 5974 (Feb. 2, 2011).

DISCLOSURE TO CONSUMER REPORTING AGENCIES:

None.

POLICIES AND PRACTICES FOR STORING, RETRIEVING, ACCESS CONTROLS, RETAINING, AND DISPOSING OF RECORDS IN THE SYSTEM:

STORAGE:

Electronic records, including emails, spreadsheets, PDF files, other documents and content maintained in or through this system are stored on the Commission's network and other electronic media as needed, such as encrypted hard drives and back-up media. Print-outs of records in this system are stored in file folders, binders and similar filing methods.

RETRIEVABILITY:

By name of the employee, volunteer, intern, consultant or contractor who has access to the CFTC network.

ACCESS CONTROLS, SAFEGUARDS:

Records in the system are protected from unauthorized access and misuse through various administrative, technical and physical security measures. Technical security measures within CFTC include restrictions on computer access to authorized individuals, required use of strong passwords that are frequently changed, use of encryption for certain data types and transfers, and regular review of security procedures and best practices to enhance security. Physical measures include restrictions on building access to authorized individuals only and maintaining records in lockable offices and filing cabinets.

RETENTION AND DISPOSAL:

The records will be maintained and dispositioned in accordance with records disposition schedules approved by the National Archives and Records Administration.

SYSTEM MANAGER(S) AND ADDRESS:

The Commission's Office of Data and Technology, located at the Commodity Futures Trading Commission, Three Lafayette Centre, 1155 21st Street NW., Washington, DC 20581.

NOTIFICATION PROCEDURE:

Individuals seeking to determine whether this system of records contains information about themselves or seeking access to records about themselves in this system of records, or contesting the content of records about themselves contained in this system of records should address written inquiry to the Office of General Counsel, Paralegal Specialist, Commodity Futures Trading Commission, Three Lafayette Centre, 1155 21st Street NW., Washington, DC 20581. Telephone (202) 418-5011.

RECORD SOURCE CATEGORIES:

CFTC employees, volunteers, interns, contractors or consultants who have access to the CFTC network and post information within the Internal Electronic Collaboration Tools. The source of user directory information is the network administration database.

EXEMPTIONS CLAIMED FOR THIS SYSTEM:

The Internal Electronic Collaboration Tools system will contain documents in electronic form covered by other System of Record Notices, and the exemptions for those System of Record Notices apply.

Issued in Washington, DC, this 5th day of January, 2012, by the Commission.
David Stawick,
Secretary of the Commission.

[FR Doc. 2012-547 Filed 1-12-12; 8:45 am]

BILLING CODE P